DEPARTMENT OF ENERGY

Federal Energy Regulatory Commission

[Docket Nos. CP02-378-004]

Cameron LNG, LLC; Notice of Application

February 23, 2006.

Take notice that on January 26, 2006, as supplemented on February 21, 2006, Cameron LNG, LLC (Cameron LNG), 101 Ash Street, San Diego, CA 92101, filed in the above referenced docket, an application to amend its authorizations to construct and operate its liquefied natural gas (LNG) import terminal issued pursuant to section 3 of the Natural Gas Act (NGA), and Part 153 of the Commission's regulations. Specifically, Cameron LNG requests amended section 3 authority approving certain pre-investment terminal facility modifications.

Any questions regarding Cameron LNG's application should be directed to: Carlos F. Peña, Senior Regulatory Counsel, HQ13, 101 Ash Street, San Diego, CA 92101, phone (619) 696-4320.

Cameron LNG requests an amended Section 3 authorization which would approve certain LNG terminal facility modifications. Cameron LNG has proposed an expansion of its LNG terminal which is being examined by the Commission and interested parties in a Pre-Filing Process under Docket No. PF06-10-000. In advance of that proposed expansion, Cameron LNG seeks in the above amendment approval for certain modifications to the LNG terminal facilities which have already been approved by the Commission. The fourteen specific modifications requested are more fully described in Cameron LNG's filing.

Cameron LNG says these modifications are being proposed to allow the proposed expansion to be fully integrated into the approved base LNG terminal design in as safe a manner as possible with a minimum of downtime and interruption of send out service. Cameron LNG says that it is not now seeking an increase in the physical offload or send out capabilities of the LNG terminal using the proposed modifications. The supplement filed by Cameron LNG on February 21, 2006 included certain critical energy infrastructure information necessary to make its application complete.

As proposed by Cameron LNG, the approval of these modifications is not subject to the mandatory Pre-Filing Process required under section 157.21(e)(2) of the Commission's Regulations. The scope of the proposed modifications is not significant enough to warrant the Pre-Filing Process because the prospective modifications are not significant enough modifications that would involve state and local safety considerations.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission encourages electronic submission of protests and interventions in lieu of paper using the “eFiling” link at http://www.ferc.gov.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: March 15, 2006.

Magalie R. Salas,
Secretary.

[FR Doc. E6-2877 Filed 2-28-06; 8:45 am]

BILLING CODE 6717-01-P